DEPARTMENT OF TRANSPORTATION

Federal Highway Administration

Environmental Impact Statement; Whiteside County, IL

AGENCY: Federal Highway Administration (FHWA), DOT.

ACTION: Notice of Intent.

SUMMARY: The FHWA is issuing this notice to advise the public that an environmental impact statement will be prepared for proposed transportation improvements between U.S. Route 30 and IL Route 136 intersection near Fulton, Illinois eastward to the U.S. Route 30 and IL Route 40 intersection in Rock Falls, Illinois.

FOR FURTHER INFORMATION CONTACT: Norman R. Stoner, P.E., Division Administrator, Federal Highway Administration, 3250 Executive Park Drive, Springfield, Illinois 62703, Phone: (217) 492-4600. George F. Ryan, P.E., Deputy Director of Highways, Region Two Engineer, Illinois Department of Transportation, 819 Depot Avenue, Dixon, Illinois 61021, Phone: (815) 284-2271.

SUPPLEMENTARY INFORMATION: The FHWA, in cooperation with the Illinois Department of Transportation (IDOT), will prepare an environmental impact statement (EIS) on potential transportation improvements along an approximately 24-mile long corridor of U.S. Route 30 in Whiteside County, Illinois. Improvements to the corridor are considered necessary to enhance mobility and improve system continuity.

Primary environmental resources that may be affected are: agricultural land, wetlands, floodplains, and streams. Compatibility with the regional land use plans and context sensitivity will also be important considerations. Alternatives to be evaluated will include (1) Taking no action: (2) widening portions of the existing two-lane highway to four lanes; and (3) constructing a four-lane limited access highway on new location.

To help ensure that a full range of issues related to this proposed project are identified and addressed, a comprehensive public involvement program is underway. Letters describing the proposed action and soliciting comments will be sent to appropriate Federal, State, and local agencies, and private organizations and citizens who have previously expressed or are known to have interest in this project. A series of public informational meetings are being held and additional meetings will be held with community advisory groups, local and State officials, and public interest groups. A project web site and project hotline are established. Comments or questions concerning this proposed action and the EIS are invited from all interested parties and should be directed to the FHWA at the address provided above. A public hearing will be held after the draft EIS is published and made available for public and agency review. Public notice will be given of the time and place of meetings and the public hearing.

(Catalog of Federal of Federal Domestic Assistance Program Number 20.205, Highway Research, Planning and Construction. The regulations implementing Executive Order 12372 regarding intergovernmental consultation on Federal programs and activities apply to this program).
Issued on: August 2, 2007.
Norman R. Stoner,
Division Administrator, Springfield, Illinois.

[FR Doc. 07-3874 Filed 8-08-07; 8:45 am]

BILLING CODE 4910-22-M